ENVIRONMENTAL PROTECTION AGENCY

40 CFR Part 300

[FRL-6956-3]

National Oil and Hazardous Substance Pollution Contingency Plan; National Priorities List

AGENCY: Environmental Protection Agency.

ACTION: Notice of intent to delete Cleveland Mill Superfund Site from the National Priorities List.

SUMMARY: The Environmental Protection Agency (EPA) Region 6 is issuing a notice of intent to delete the Cleveland Mill Superfund Site (Site), located in Grant County, New Mexico, from the National Priorities List (NPL) and requests public comments on this notice of intent. The NPL, promulgated pursuant to section 105 of the Comprehensive Environmental Response, Compensation, and Liability Act (CERCLA) of 1980, as amended, is found at appendix B of 40 CFR part 300 which is the National Oil and Hazardous Substances Pollution Contingency Plan (NCP). The EPA and the State of New Mexico, through the New Mexico Environment Department (NMED), have determined that all appropriate response actions under CERCLA, other than operation and maintenance and five-year reviews, have been completed. However, this deletion does not preclude future actions under Superfund.

In the “Rules and Regulations” section of today's Federal Register, we are publishing a direct final deletion of the Cleveland Mill Superfund Site without prior notice of intent to delete because we view this as a noncontroversial revision and anticipate no adverse comment. We have explained our reasons for this deletion in the preamble to the direct final deletion. If we receive no adverse comment(s) on this notice of intent to delete or the direct final deletion, we will not take further action on this notice of intent to delete. If we receive adverse comment(s), we will withdraw the direct final deletion and it will not take effect. We will, as appropriate, address all public comments in a subsequent final deletion notice based on this notice of intent to delete. We will not institute a second comment period on this notice of intent to delete. Any parties interested in commenting must do so at this time. For additional information, see the direct final deletion which is located in the Rules section of this Federal Register.

DATES: Comments concerning this Site must be received by June 21, 2001.

ADDRESSES: Written comments should be addressed to: Ms. Beverly Negri, Community Involvement Coordinator, U.S. EPA (6SF-PO), 1445 Ross Avenue, Dallas, Texas 75202-2733, (214) 665-8157 or 1-800-533-3508.

FOR FURTHER INFORMATION CONTACT: Ms. Kathleen Aisling, Remedial Project Manager, U.S. EPA (6SF-LT), 1445 Ross Avenue, Dallas, Texas 75202-2733, (214) 665-8509 or 1-800-533-3508.

SUPPLEMENTARY INFORMATION: For additional information, see the Direct Final Notice of Deletion which is located in the Rules section of this Federal Register.

Information Repositories: Repositories have been established to provide detailed information concerning this decision at the following address: U.S. EPA Region 6 Library, Suite 12D13, 1445 Ross Avenue, Dallas, Texas 75202-2733, (214) 665-6424, Monday through Friday 7:30 a.m. to 4:30 p.m.; Silver City Public Library, 5151 West College Avenue, Silver City, New Mexico, 88061, (505) 538-3672, Monday and Thursday 9:00 a.m. to 8:00 p.m.; Tuesday and Wednesday 9:00 a.m. to 6:00 p.m.; Friday 9:00 a.m. to 5:00 p.m.; and Saturday 9:00 a.m. to 1:00 p.m.; New Mexico Environment Department, 1190 St. Francis Drive, Santa Fe, New Mexico 87502, (505) 827-2844, Monday through Friday 8:30 a.m. to 5:30 p.m.

List of Subjects in 40 CFR Part 300

Environmental protection, Air pollution control, Chemicals, Hazardous waste, Hazardous substances, Intergovernmental relations, Penalties, Reporting and recordkeeping requirements, Superfund, Water pollution control, Water supply.

Authority: 33 U.S.C. 1321(c)(2); 42 U.S.C. 9601-9657; E.O. 12777, 56 FR 54757, 3 CFR, 1991 Comp., p. 351; E.O. 12580, 52 FR 2923; 3 CFR, 1987 Comp., p. 193.

Dated: January 22, 2001.
Jerry Clifford,
Acting Regional Administrator, Region 6.

[FR Doc. 01-12704 Filed 5-21-01; 8:45 am]

BILLING CODE 6560-50-P